DEPARTMENT OF DEFENSE

Department of the Navy

Education for Seapower Advisory Board; Notice of Federal Advisory Committee Meeting

AGENCY: Department of the Navy (DoN), Department of Defense (DoD).

ACTION: Notice of Federal advisory committee meeting.

SUMMARY: The DoD is publishing this notice to announce that the following Federal Advisory Committee meeting of the Education for Seapower Advisory Board (E4SAB) will take place.

DATES: The meeting is open to the public and will be held on Thursday, April 4, 2024 from 12:00 p.m. to 5:00 p.m. Eastern Time Zone (ET).

ADDRESSES: The open meeting will be held at the Naval War College, Newport, Rhode Island. The meeting will be handicap accessible. Escort is required.

FOR FURTHER INFORMATION CONTACT: Dr. Kendy Vierling, Designated Federal Officer (DFO), Office of the Assistant Secretary of the Navy (Manpower and Reserve Affairs), Pentagon, Washington, DC 20350-1000, 703-695-4589, kendy.k.vierling.civ@us.navy.mil.

SUPPLEMENTARY INFORMATION: This meeting is being held under the provisions of chapter 10 of Title 5, United States Code (U.S.C.) (commonly known as the Federal Advisory Committee Act (FACA) (formerly 5 U.S.C. App.), as amended), the Government in the Sunshine Act of 1976 (5 U.S.C. 552b, as amended), and Title 41 Code of Federal Regulations (CFR) 102-3.140 and 102-3.150.

Purpose of the Meeting: The purpose of the meeting is to receive updates and discuss naval education programs, strategy and implementation, organizational management, and other matters of interest to the DoD, as determined by the Secretary of Defense, the Deputy Secretary of Defense, or the Secretary of the Navy (SECNAV).

Agenda: On April 4, 2024, SECNAV and DoN leadership may provide comments on naval education programs and the DoN's Naval Education Strategy 2023. The E4SAB will conduct a panel with current United States Naval War College (NWC), Naval Postgraduate School (NPS), and United States Naval Community College (USNCC) students to discuss their educational experiences and perspectives. The E4SAB will receive updates and recommendations from its three subcommittees, pertaining to aspects of accreditation requirements, operations, and administrative policies of the NWC, NPS, and USNCC.

Availability of Materials for the Meeting: A copy of the agenda or any updates to the agenda for the April 4, 2024 meeting, as well as supporting documents, can be found on the website: https://www.secnav.navy.mil/mra/e4sab.

Meeting Accessibility: Pursuant to section 1009(a)(1) of title 5 U.S.C. and 41 CFR 102-3.140 through 102-3.165, this meeting is open to the public from 12:00 p.m. to 5:00 p.m. ET on April 4, 2024. Members of the public who wish to attend the meeting in person may attend on a space available basis from 12:00 p.m. to 5:00 p.m. ET. Persons desiring to attend the meeting are required to submit their name, organization, email address, and telephone contact information to Ms. Tiphany Morales at tiphany.e.morales.civ@us.navy.mil no later than Wednesday, March 27, 2024.

Special Accommodations: Individuals requiring special accommodations to access the public meeting should contact Ms. Tiphany Morales at tiphany.e.morales.civ@us.navy.mil no later than Wednesday, March 27, 2024 (by 5:00 p.m. ET) so that appropriate arrangements can be made.

Written Statements: Pursuant to 41 CFR 102-3.105 and 102-3.140, and section 1009(a)(3) of title 5 U.S.C., written statements to the committee may be submitted at any time or in response to a stated planned meeting agenda by email to Dr. Kendy Vierling at kendy.k.vierling.civ@us.navy.mil with the subject line, “Comments for E4SAB Meeting.” Written comments pertaining to a specific topic being discussed at the planned meeting received no later than 5:00 p.m. ET on Friday, March 29, 2024 will be distributed to the E4SAB, in the order received. Comments pertaining to the agenda items will be discussed during the public meeting. Any written statements received after the deadline may not be provided to, or considered by, the Committee during the April 4, 2024 meeting, but will be provided to the members of the E4SAB prior to the next scheduled meeting. Any comments received by the E4SAB will be posted on the website https://www.secnav.navy.mil/mra/e4sab.

Dated: February 22, 2024.
J.E. Koningisor,
Lieutenant Commander, Judge Advocate General's Corps, U.S. Navy, Federal Register Liaison Officer.

[FR Doc. 2024-04068 Filed 2-27-24; 8:45 am]

BILLING CODE 3810-FF-P